DEPARTMENT OF ENERGY

Federal Energy Regulatory Commission

[Docket No. CP20-26-000]

Notice of Request for Extension of Time; Eastern Gas Transmission and Storage, Inc.

Take notice that on January 21, 2021, Eastern Gas Transmission and Storage, Inc.¹ (Eastern GTS) requested that the Federal Energy Regulatory Commission (Commission) grant an extension of time, until August 22, 2021, to abandon, reconfigure, and relocate storage wells and related pipelines within its jurisdictional Bridgeport Storage Field in Harrison County, West Virginia (Project),² as deemed authorized, effective February 22, 2020. Under the applicable regulations, the Project was to be completed and made available for service by February 22, 2021, i.e., within one year of authorization.³

¹ As of November 1, 2020, Berkshire Hathaway Energy Company acquired certain companies of Dominion Energy, including Dominion Energy Transmission, Inc. and has changed its name to Eastern Gas Transmission and Storage, Inc.

² Prior Notice of Blanket Certificate Activity, Docket No. CP20-26-000 (filed December 16, 2019).

³ Pursuant to Section 157.205 of the Commission's regulations, 18 CFR 157.205, a prior notice application is deemed to be authorized the day after the intervention period lapses if no protests are filed.

Eastern GTS states that, primarily due to delays related to the COVID-19 pandemic, as well as weather related delays, Eastern GTS will be unable to complete all construction activities necessary to complete the Project within the authorized one-year timeframe. Accordingly, Eastern GTS requests a six-month extension of time, until August 22, 2021, to complete construction of the Project.

This notice establishes a 15-calendar day intervention and comment period deadline. Any person wishing to comment on Columbia's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁴

⁴ Only motions to intervene from entities that were party to the underlying proceeding will be accepted. Algonquin Gas Transmission, LLC, 170 FERC 61,144, at P 39 (2020).

As a matter of practice, the Commission itself generally acts on requests for extensions of time to complete construction for Natural Gas Act facilities when such requests are contested before order issuance. For those extension requests that are contested,⁵ the Commission will aim to issue an order acting on the request within 45 days.⁶ The Commission will address all arguments relating to whether the applicant has demonstrated there is good cause to grant the extension.⁷ The Commission will not consider arguments that re-litigate the issuance of the Certificate Order, including whether the Commission properly found the project to be in the public convenience and necessity and whether the Commission's environmental analysis for the certificate complied with the National Environmental Policy Act.⁸ At the time a pipeline requests an extension of time, orders on certificates of public convenience and necessity are final and the Commission will not re-litigate their issuance.⁹ The OEP Director, or his or her designee, will act on those extension requests that are uncontested.

⁵ Contested proceedings are those where an intervenor disputes any material issue of the filing. 18 CFR 385.2201(c)(1) (2020).

⁶ Algonquin Gas Transmission, LLC, 170 FERC 61,144, at P 40 (2020).

⁷ Id. P 40.

⁸ Similarly, the Commission will not re-litigate the issuance of an NGA section 3 authorization, including whether a proposed project is not inconsistent with the public interest and whether the Commission's environmental analysis for the permit order complied with NEPA.

⁹ Algonquin Gas Transmission, LLC, 170 FERC 61,144, at P 40 (2020).

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning COVID-19, issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission. To mail via USPS, use the following address: Kimberly D. Bose, Secretary, Federal Energy Regulatory Commission, 888 First Street NE, Washington, DC 20426. To mail via any other courier, use the following address: Kimberly D. Bose, Secretary, Federal Energy Regulatory Commission, 12225 Wilkins Avenue, Rockville, Maryland 20852.

Comment Date: 5:00 p.m. Eastern Time on February 11, 2021.

Dated: January 26, 2021.
Nathaniel J. Davis, Sr.,
Deputy Secretary.

[FR Doc. 2021-02097 Filed 1-29-21; 8:45 am]

BILLING CODE 6717-01-P